DEPARTMENT OF DEFENSE

48 CFR Part 204

[DFARS Case 2000-D002]

Defense Federal Acquisition Regulation Supplement; Closeout of Foreign Military Sales Contract Line Items

AGENCY: Department of Defense (DoD).

ACTION: Proposed rule with request for comments.

SUMMARY: The Acting Director of Defense Procurement is proposing to amend Defense Federal Acquisition Regulation Supplement (DFARS) policy pertaining to closeout of contract files. The amendments would expedite the closeout of Foreign Military Sales (FMS) contract line items, under contracts that contain both FMS and non-FMS items, by permitting closeout of the FMS line items as soon as the closeout requirements for those line items are satisfied.

DATES: Comments on the proposed rule should be submitted in writing to the address specified below on or before June 12, 2000, to be considered in the formation of the final rule.

ADDRESSES: Interested parties should submit written comments on the proposed rule to: Defense Acquisition Regulation Council, Attn: Ms. Melissa Rider, PDUSD (AT&L) DP (DAR), IMD 3D139, 3062 Defense Pentagon, Washington, DC 20301-3062. Telefax (703) 602-0350.

E-mail comments submitted via the Internet should be addressed to: dfars@acq.osd.mil.

Please cite DFARS Case 2000-D002 in all correspondence related to this proposed rule. E-mail correspondence should cite DFARS Case 2000-D002 in the subject line.

FOR FURTHER INFORMATION CONTACT: Ms. Melissa Rider, (703) 602-4245.

SUPPLEMENTARY INFORMATION:

A. Background

This proposed rule amends the contract closeout policy at DFARS 204.804 to specify that, if a contract includes FMS contract line items and non-FMS contract line items, the FMS line items should be closeout as soon as the closeout requirements for those line items are satisfied. This change is proposed as part of a DoD initiative to improve the FMS process.

This rule was not subject to Office of Management and Budget review under Executive Order 12866, dated September 30, 1993.

B. Regulatory Flexibility Act

The proposed rule is not expected to have a significant economic impact on a substantial number of small entities within the meaning of the Regulatory Flexibility Act, 5 U.S.C. 601, et seq., because the rule only affects the timing of the administrative matter of closing out contract line items. Therefore, an initial regulatory flexibility analysis has not been performed. Comments are invited from small businesses and other interested parties. Comments from small entities concerning the affected DFARS subpart also will be considered in accordance with 5 U.S.C. 610. Such comments should be submitted separately and should cite DFARS Case 2000-D002.

C. Paperwork Reduction Act

The Paperwork Reduction Act does not apply because the rule does not impose any information collection requirements that require the approval of the Office of Management and Budget under 44 U.S.C. 3501, et seq.

List of Subjects in 48 CFR Part 204

Government procurement.

Michele P. Peterson,
Executive Editor, Defense Acquisition Regulations Council.

Therefore, 48 CFR part 204 is proposed to be amended as follows:

1. The authority citation for 48 CFR part 204 continues to read as follows:

Authority: 41 U.S.C. 421 and 48 CFR Chapter 1.

PART 204—ADMINISTRATIVE MATTERS

2. Section 204.804 is amended by revising the introductory text to read as follows:

204.804 Closeout of contract files.

Normally, the closeout date for contract files is the date in Block 9d on the DD Form 1594, Contract Completion Statement, or in columns 59-65 on the PK9. However, if the contract includes Foreign Military Sales (FMS) contact line items and non-FMS contract line items, the FMS contract line items should be closed out as soon as the closeout requirements for those line items are satisfied in accordance with FAR 4.804. If the contracting office must do a major closeout action that will take longer than 3 months after the date shown in Block 9d of the DD Form 1594, or in columns 59-65 of the PK9-

* * * * *

[FR Doc. 00-9083 Filed 4-12-00; 8:45 am]

BILLING CODE 5000-04-M